NUCLEAR REGULATORY COMMISSION

Sunshine Meeting Act

Agency Holding the Meeting: Nuclear Regulatory Commission.

Date: Weeks of October 9, 16, 23, 30, November 6, and 13, 2000.

Place: Commissioners' Conference Room, 11555 Rockville Pike, Rockville, Maryland.

Status: Public and Closed.

Matters to be Considered:

Week of October 9

There are no meetings scheduled for the Week of October 9.

Week of October 16—Tentative

Tuesday, October 17

9:25 a.m. Affirmation Session (Public Meeting) (If needed)

Week of October 23—Tentative

Monday, October 23

1:55 p.m. Affirmation Session (Public Meeting) (If needed)

Week of October 30—Tentative

There are no meetings scheduled for the Week of October 30.

Week of November 6—Tentative

There are no meetings scheduled for the Week of November 6.

Week of November 13—Tentative

Friday, November 17

9:25 a.m. Affirmation Session (Public Meeting) (If needed)

9:30 a.m. Briefing on Risk-Informed Regulation Implementation Plan (Public Meeting)

This meeting will be webcast live at the Web address— www.nrc.gov/live.html

*The schedule for commission meetings is subject to change on short notice. To verify the status of meetings call (recording)—(301) 415-1292. Contact person for more information: Bill Hill (301) 415-1661.

* * * * *

Additional Information

By a vote of 5-0 on October 6, the Commission determined pursuant to U.S.C. 552b(e) and § 9.107(a) of the Commission's rules that “Affirmation of VERMONT YANKEE NUCLEAR POWER CORP. & AMERGEN VERMONT, LLC (Vermont Yankee Nuclear Power Station), Docket No. 50-271-LT. Petitions to Intervene and Motions for Hearing from Citizens Awareness Network (“CAN”) and the Vermont Department of Public Service (“Vermont”); also various motions by CAN associated with its petition” be held on October 6, and on less than one week's notice to the public.

* * * * *

The NRC Commission Meeting Schedule can be found on the Internet at:

http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: October 6, 2000.
William M. Hill, Jr.,
SECY Tracking Officer, Office of the Secretary.

[FR Doc. 00-26334 Filed 10-10-00; 11:44 am]

BILLING CODE 7590-01-M